DEPARTMENT OF ENERGY

Federal Energy Regulatory Commission

Notice of Filing Taking Effect by Operation of Law

| Docket Nos.
Alabama Power Company | ER21-1111-002
Dominion Energy South Carolina, Inc | ER21-1112-002
Louisville Gas and Electric Company | ER21-1114-002
Duke Energy Carolinas, LLC | ER21-1116-002
Duke Energy Progress, LLC | ER21-1117-002
Georgia Power Company | ER21-1119-002
Kentucky Utilities Company | ER21-1120-002
Mississippi Power Company | ER21-1121-002 (Not Consolidated)

On February 12, 2021, as amended on June 7, 2021, and August 11, 2021, Southern Company Services, Inc., as agent for Alabama Power Company, filed, pursuant to section 205 of the Federal Power Act (FPA) ¹ and section 35.12 of the Commission's regulations,² the Southeast Energy Exchange Market (Southeast EEM) Agreement on behalf of itself and the other prospective Members (collectively, Filing Parties) of the Southeast EEM.³ Additionally, on February 12, 2021, as amended on June 7, 2021, and August 11, 2021, seven prospective Southeast EEM Members submitted certificates of concurrence to the Southeast EEM Agreement.⁴

¹ 16 U.S.C. 824d (2018).

² 18 CFR 35.12 (2020).

³ According to Filing Parties, the following entities constitute the prospective Members of the Southeast EEM: Alabama Power Company, Georgia Power Company, and Mississippi Power Company (collectively, Southern Companies); Associated Electric Cooperative, Inc.; Dalton Utilities; Dominion Energy South Carolina, Inc. (Dominion Energy SC); Duke Energy Carolinas, LLC (DEC) and Duke Energy Progress, LLC (DEP); Louisville Gas and Electric Company (LG&E) and Kentucky Utilities Company (KU); North Carolina Municipal Power Agency Number 1; PowerSouth Energy Cooperative; North Carolina Electric Membership Corporation; and Tennessee Valley Authority (each a Member and collectively, the Members).

⁴ See Dominion Energy SC, Tariff Filing, Docket No. ER21-1112-002 (filed Aug. 11, 2021); LG&E, Tariff Filing, Docket No. ER21-1114-002 (filed Aug. 11, 2021); DEC, Tariff Filing, Docket No. ER21-1116-002 (filed Aug. 11, 2021); DEP, Tariff Filing, Docket No. ER21-1117-002 (filed Aug. 11, 2021); Georgia Power Company, Tariff Filing, Docket No. ER21-1119-002 (filed Aug. 11, 2021); KU, Tariff Filing, Docket No. ER21-1120-002 (filed Aug. 11, 2021); Mississippi Power Company, Tariff Filing, Docket No. ER21-1121-002 (filed Aug. 11, 2021). Where two or more public utilities are parties to the same rate schedule or tariff, the Commission permits one public utility to file such rate schedule or tariff and all other parties obligated to file such rate schedule or tariff to file a certificate of concurrence adopting the filed rate schedule or tariff in lieu of filing a duplicative rate schedule or tariff. 18 CFR 35.1(a) (2020).

Pursuant to section 205 of the FPA, in the absence of Commission action on or before October 11, 2021, the proposed Southeast EEM Agreement and concurrences thereto became effective by operation of law. Accordingly, the effective date of the proposed tariff sheets is October 12, 2021, as reflected in these tariff sheets.

The Commission did not act on the proposed Southeast EEM Agreement and concurrences thereto because the Commissioners are divided two against two as to the lawfulness of the change. Consistent with section 205(g)(1)(B) of the FPA, any written statement explaining the views of a Commissioner with respect to Filing Parties' proposal will be added to the record of the Commission in the captioned proceedings.

Dated: October 13, 2021.
Kimberly D. Bose,
Secretary.

[FR Doc. 2021-22729 Filed 10-18-21; 8:45 am]

BILLING CODE 6717-01-P